DEPARTMENT OF AGRICULTURE

Natural Resources Conservation Service

Central Closed/Estancia Basin (Torrance, Lincoln, and Socorro Counties, et al), EQIP for GPAs, New Mexico

AGENCY: Natural Resources Conservation Service, USDA.

ACTION: Notice of a finding of no significant impact.

SUMMARY: Pursuant to section 102(2)(c) of the National Environmental Policy Act of 1969; the Council on Environmental Quality Regulations (40 CFR part 1500); and the Natural Resources Conservation Service Regulations (7 CFR part 650); the U.S. Department of Agriculture, Natural Resources Conservation Service, in New Mexico, gives notice that an environmental impact statement is not being prepared for:

Central Closed/Estancia Basin (Torrance, Lincoln and Socorro Counties)

Lower Rio Grande (Sierra and Socorro Counties)

Irrigated Cropland of the Southwest Closed Basins (Dona Ana and Luna Counties)

Lesser Prairie Chicken (Roosevelt, Lea, Chaves and Curry Counties)

Macho/Gallo Watershed (Lincoln County)

Tramperos Creek Watershed (Union and Harding Counties)

Upper Tularosa Basin Watershed Treatment (Lincoln and Socorro Counties)

Zuni River Watershed (Cibola and McKinley Counties)

Eastern NM Conservation Buffer Initiative (Union, Mora, Harding, San Miguel, Quay, Curry, Roosevelt and Lea Counties)

Cougar/Torrance Watershed (Torrance County)

Estancia Closed Underground Watershed (Torrance, Santa Fe and Bernallilo Counties)

Black River/Delaware River (Eddy County)

Abo Arroyo Watershed (Torrance, Socorro and Valencia Counties)

Rio Hondo Watershed Treatment (Lincoln and Otero Counties)

Yellow Dog Canyon (Socorro County)

Irrigated Cropland of Hidalgo (Hidalgo County)

Upper Canadian River Watershed (Union, Colfax, Harding, Mora and San Miguel Counties)

Pecos River Watershed Aquifer Brush Control (Chaves County)

Eastern Sangre De Cristo Mountain Watershed (Mora, San Miguel and Taos Counties)

FOR FURTHER INFORMATION CONTACT: Rosendo Trevino III, State Conservationist, Natural Resources Conservation Service, 6200 Jefferson, NE, Albuquerque, NM 87109-3734, Telephone (505)761-4400.

Copies of these environmental assessements are available from NRCS in Albuquerque, NM and are also available electronically on the NRCS New Mexico Internet Homepage at: http://www.nm.nrfcs.usda.gov/techserv/ea.htm.

SUPPLEMENTARY INFORMATION: The environmental assessments of these federally assisted actions indicate that the projects will not cause significant local, regional, or national effects on the human environment. As a result of these findings, Rosendo Trevino III, State Conservationist, has determined that the preparation and review of an environmental impact statement are not needed for these projects. Basic data developed during the environmental assessment is on file and may be reviewed by contacting Rosendo Trevino III.

No administrative action on implementation of the proposed action will be taken until 30 days after the date of this publication in the Federal Register.

Dated: December 20, 2001.
Rosendo Trevino III,
State Conservationist.

[FR Doc. 02-913 Filed 1-14-02; 8:45 am]

BILLING CODE 3410-16-P